DEPARTMENT OF THE INTERIOR

Geological Survey

Notice of Availability of the Draft Environmental Assessment of a Marine Geophysical Survey by the U.S. Geological Survey in the Arctic Ocean, August-September 2010

AGENCY: U.S. Geological Survey, Interior.

ACTION: Notice of Availability.

SUMMARY: In accordance with the National Environmental Policy Act of 1969, as amended, the U.S. Geological Survey (USGS) has prepared a Draft Environmental Assessment (EA) of a Marine Geophysical Survey by the U.S. Geological Survey in the Arctic Ocean, August-September 2010 and by this notice is announcing the opening of the comment period.

DATES: To ensure comments will be considered, the USGS must receive written comments on the Draft EA of a Marine Geophysical Survey by the U.S. Geological Survey in the Arctic Ocean, August-September 2010 within 30 days following the date this Notice of Availability is published in the Federal Register.

ADDRESSES: You may submit comments related to the Draft Environmental Assessment of a Marine Geophysical Survey by the U.S. Geological Survey in the Arctic Ocean, August-September 2010 by any of the following methods:

• Web site: http://walrus.wr.usgs.gov/EA/ECS_EA

• E-mail: jchilds@usgs.gov.

• Fax: 650-329-5190.

• Mail: Jonathan R. Childs, U.S. Geological Survey, Mail Stop 999, 345 Middlefield Rd., Menlo Park, CA 94025.

Copies of the Draft EA are available in the USGS Menlo Park Earth Science Information Center, Building 3, Room 3128, 345 Middlefield Rd., Menlo Park, CA 94025, Telephone: (650) 329-4309; the USGS Anchorage Earth Science Information Center, Room 208, 4210 University Dr. Anchorage, AK 99508, Telephone: (907) 786-7011; and at the North Slope Borough Department of Wildlife Management, Barrow, Alaska, Telephone: (907) 852-0350.

FOR FURTHER INFORMATION CONTACT: For further information contact Jonathan R. Childs, geophysicist, at the above address.

SUPPLEMENTARY INFORMATION: The objective of the proposed Geophysical Survey is to provide information relevant to determining the outer limits of the U.S. Extended Continental Shelf under the provisions of Article 76 of the UN Convention on the Law of the Sea. Further information is available at: http://www.continentalshelf.gov.

Prior public input included requests for comment and information early in the project from agencies with potential interest or jurisdiction, and from local North Slope organizations with a potential interest in the proposed project. Survey plans were presented at the Alaskan Eskimo Whaling Captain's meeting on February 11, 2010. A public meeting was held March 23, 2010 in Anchorage, Alaska. Minor issues and concerns were addressed during the public meeting.

Please note that public comments and information submitted including names, street addresses, and email addresses of persons who submit comments will be available for public review and disclosure at the USGS Menlo Park address above during regular business hours (8 a.m. to 4 p.m.), Monday through Friday, except holidays.

Authority: 40 CFR 1506.6, 40 CFR 1506.10.

James F. Devine,
Senior Advisor for Science Applications.

[FR Doc. 2010-14038 Filed 6-10-10; 8:45 am]

BILLING CODE P